DEPARTMENT OF TRANSPORTATION

Federal Railroad Administration

Petition for Waiver of Compliance

In accordance with part 211 of title 49 Code of Federal Regulations (CFR), notice is hereby given that the Federal Railroad Administration (FRA) received a request for a waiver of compliance from certain requirements of its safety standards. The individual petition is described below, including the party seeking relief, the regulatory provisions involved, the nature of the relief being requested, and the petitioner's arguments in favor of relief.

CSX Transportation

[Docket Number FRA-2007-28612]

CSX Transportation (CSX) seeks a permanent waiver of compliance from certain provisions of the Locomotive Safety Standards, 49 CFR 229.129(c), as it pertains to railroad locomotive horn testing. CSX seeks to utilize an automated sound measurement system (ASMS) to test locomotive horns as required in Sections 229.129(a) and (b). The ASMS utilizes a Class 1 sound-level measuring instrument that is permanently mounted in a fixed test site and uses the same technology that is used to measure noise at airports nationwide.

CSX requests to extend the requirement for acoustic calibration (49 CFR 229.129(c)(2) and (9)) from immediately before and after each session of compliance tests to a period of not more than every 6 months. The 6-month period is to be extended to 1 year if the system demonstrates a history of stability that indicates the 6-month testing is unnecessary. CSX states in their petition that the ASMS is equipped with an electrostatic test device that monitors acoustic calibration, and that they would review these tests daily and perform calibration as needed.

In addition, CSX requests a waiver to reduce the requirement from a locomotive needing a 200-foot clearance (49 CFR 229.129(c)(5)) to the front and sides from large reflective surfaces to 150 feet at the side clearance. CSX states in their request that they performed horn testing at 150 feet and again at the required 200 feet with no measurable difference in meter readings. A reduction in the side clearance would assist the railroad in finding suitable test sites closer to their maintenance facilities.

Finally, CSX requests a waiver from the requirement of testing cab- and low-mounted horns (49 CFR 229.129(c)(7)) at a 4-foot level in order to allow all locomotive horns to be tested at the 15-foot level. CSX feels that testing all horns at the 15-foot level would provide more consistent and meaningful measurements for both types of horn mountings. CSX testing shows that cab- and low-mounted horns showed reduced sound measurement at the 4-foot level compared to the 15-foot level, due to the effect of the acoustic shadow created by the locomotive.

Interested parties are invited to participate in these proceedings by submitting written views, data, or comments. FRA does not anticipate scheduling a public hearing in connection with these proceedings since the facts do not appear to warrant a hearing. If any interested party desires an opportunity for oral comment, they should notify FRA in writing before the end of the comment period and specify the basis for their request.

All communications concerning these proceedings should identify the appropriate docket number (e.g., Waiver Petition Docket Number FRA-2007-28612) and must be submitted in triplicate to the Docket Clerk, DOT Central Docket Management Facility, 1200 New Jersey Avenue, SE., Room W12-140, Washington, DC 20590-0001.

Communications received within 45 days of the date of this notice will be considered by FRA before final action is taken. Comments received after that date will be considered as far as practicable. All written communications concerning these proceedings are available for examination during regular business hours (9 a.m.-5 p.m.) at DOT Central Docket Management Facility, 1200 New Jersey Avenue, SE., West Building Ground Floor, Room W12-140, Washington, DC 20590. All documents in the public docket are also available for inspection and copying on the Internet at the docket facility's Web site at http://dms.dot.gov.

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19377-78). The Statement may also be found at http://dms.dot.gov.

Issued in Washington, DC, on September 6, 2007.
Grady C. Cothen, Jr.,
Deputy Associate Administrator, for Safety Standards and Program Development.

[FR Doc. E7-18168 Filed 9-13-07; 8:45 am]

BILLING CODE 4910-06-P